SUSQUEHANNA RIVER BASIN COMMISSION

Notice of Projects Approved for Consumptive Uses of Water

AGENCY: Susquehanna River Basin Commission.

ACTION: Notice of Approved Projects.

SUMMARY: This notice lists the projects approved by rule by the Susquehanna River Basin Commission during the period set forth in DATES.

DATES: September 1, 2009, through September 30, 2009.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued

1. J-W Operating Company, Pad ID: Pardee & Curtin Lumber Co. C-10H, ABR-20090901, Shippen Township, Cameron County, Pa.; Consumptive Use of up to 4.500 mgd; Approval Date: September 1, 2009.

2. Ultra Resources, Inc., Pad ID: Kjelgaard Pad, ABR-20090902, Gaines Township, Tioga County, Pa.; Consumptive Use of up to 4.990 mgd; Approval Date: September 1, 2009.

3. Ultra Resources, Inc., Pad ID: T Pierson Pad, ABR-20090903, Gaines Township, Tioga County, Pa.; Consumptive Use of up to 4.990 mgd; Approval Date: September 1, 2009.

4. Chesapeake Appalachia, LLC, Pad ID: Bonnie, ABR-20090904, Albany Township, Bradford County, Pa.; Consumptive Use of up to 7.500 mgd; Approval Date: September 1, 2009.

5. Chesapeake Appalachia, LLC, Pad ID: Hunsinger, ABR-20090905, Rush Township, Susquehanna County, Pa.; Consumptive Use of up to 7.500 mgd; Approval Date: September 1, 2009.

6. Chesapeake Appalachia, LLC, Pad ID: Martin, ABR-20090906, Granville Township, Bradford County, Pa.; Consumptive Use of up to 7.500 mgd; Approval Date: September 1, 2009.

7. Chesapeake Appalachia, LLC, Pad ID: Farr, ABR-20090907, Towanda Township, Bradford County, Pa.; Consumptive Use of up to 7.500 mgd; Approval Date: September 1, 2009.

8. Alta Operating Company, LLC, Pad ID: Turner Pad Site, ABR-20090403.1, Liberty Township, Susquehanna County, Pa.; Consumptive Use of up to 3.999 mgd; Approval Date: September 2, 2009.

9. Alta Operating Company, LLC, Pad ID: Fiondi Pad Site, ABR-20090404.1, Middletown Township, Susquehanna County, Pa.; Consumptive Use of up to 3.999 mgd; Approval Date: September 2, 2009.

10. Anadarko E&P Company, LP, Pad ID: C.O.P. Tract 343 Pad C, ABR-20090908, Noyes Township, Clinton County, Pa.; Consumptive Use of up to 5.000 mgd; Approval Date: September 3, 2009.

11. East Resources, Inc., Pad ID: Becker 404, ABR-20090909, Jackson Township, Tioga County, Pa.; Consumptive Use of up to 4.000 mgd; Approval Date: September 8, 2009.

12. East Resources, Inc., Pad ID: White 262-1H, ABR-20090910, Jackson Township, Tioga County, Pa.; Consumptive Use of up to 4.000 mgd; Approval Date: September 8, 2009.

13. East Resources, Inc., Pad ID: Stefanowich 269-1H, ABR-20090911, Jackson Township, Tioga County, Pa.; Consumptive Use of up to 4.000 mgd; Approval Date: September 8, 2009.

14. East Resources, Inc., Pad ID: Knight 271-1H, ABR-20090912, Jackson Township, Tioga County, Pa.; Consumptive Use of up to 4.000 mgd; Approval Date: September 8, 2009.

15. Chesapeake Appalachia, LLC, Pad ID: Sharer, ABR-20090913, Stevens Township, Bradford County, Pa.; Consumptive Use of up to 7.500 mgd; Approval Date: September 8, 2009.

16. East Resources, Inc., Pad ID: Empson 235-1H, ABR-20090914, Sullivan Township, Tioga County, Pa.; Consumptive Use of up to 4.000 mgd; Approval Date: September 8, 2009.

17. Alta Operating Company, LLC, Pad ID: Knosky Pad Site, ABR-20090915, Rush Township, Susquehanna County, Pa.; Consumptive Use of up to 3.999 mgd; Approval Date: September 8, 2009.

18. Alta Operating Company, LLC, Pad ID: Carty Pad Site, ABR-20090916, Liberty Township, Susquehanna County, Pa.; Consumptive Use of up to 3.999 mgd; Approval Date: September 8, 2009.

19. EOG Resources, Inc., Pad ID: PHC 23H/24H, ABR-20090917, Lawrence Township, Clearfield County, Pa.; Consumptive Use of up to 1.999 mgd; Approval Date: September 8, 2009.

20. EOG Resources, Inc., Pad ID: PHC 28H/29H, ABR-20090918, Lawrence Township, Clearfield County, Pa.; Consumptive Use of up to 1.999 mgd; Approval Date: September 8, 2009.

21. East Resources, Inc., Pad ID: Bowers 408, ABR-20090919, Jackson Township, Tioga County, Pa.; Consumptive Use of up to 4.000 mgd; Approval Date: September 9, 2009.

22. Chief Oil & Gas, LLC, Pad ID: Falk Unit #1H, ABR-20090920, Penn Township, Lycoming County, Pa.; Consumptive Use of up to 5.000 mgd; Approval Date: September 9, 2009.

23. Chief Oil & Gas, LLC, Pad ID: Spotts Unit Drilling Pad #1, ABR-20090921, Mifflin Township, Lycoming County, Pa.; Consumptive Use of up to 5.000 mgd; Approval Date: September 10, 2009.

24. Chief Oil & Gas, LLC, Pad ID: Kensinger Unit Drilling Pad #1, ABR-20090922, Penn Township, Lycoming County, Pa.; Consumptive Use of up to 5.000 mgd; Approval Date: September 10, 2009.

25. Chief Oil & Gas, LLC, Pad ID: Maguire Unit Drilling Pad #1, ABR-20090923, Watson Township, Lycoming County, Pa.; Consumptive Use of up to 5.000 mgd; Approval Date: September 10, 2009.

26. Chief Oil & Gas, LLC, Pad ID: Stroble Unit Drilling Pad #1, ABR-20090924, Mifflin Township, Lycoming County, Pa.; Consumptive Use of up to 5.000 mgd; Approval Date: September 10, 2009.

27. Chief Oil & Gas, LLC, Pad ID: Poor Shot Unit Drilling Pad #1, ABR-20090925, Anthony Township, Lycoming County, Pa.; Consumptive Use of up to 5.000 mgd; Approval Date: September 10, 2009.

28. Pennsylvania General Energy Company, LLC; Pad ID: Pine Hill 1941 A-B, ABR-20090926, Eulalia Township, Potter County, Pa.; Consumptive Use of up to 4.900 mgd; Approval Date: September 10, 2009.

29. Anadarko E&P Company, LP, Pad ID: COP Tr 244 #1000H, ABR-20090927, Rush Township, Centre County, Pa.; Consumptive Use of up to 5.000 mgd; Approval Date: September 15, 2009.

30. Anadarko E&P Company, LP, Pad ID: COP Tr 244 #1001H and #1002H, ABR-20090928, Rush Township, Centre County, Pa.; Consumptive Use of up to 5.000 mgd; Approval Date: September 15, 2009.

31. Pennsylvania General Energy Company, LLC, Pad ID: Pine Hill West B Pad, ABR-20090929, Sylvania Township, Potter County, Pa.; Consumptive Use of up to 4.900 mgd; Approval Date: September 17, 2009.

32. Cabot Oil & Gas Corporation, Pad ID: ShieldsG P1, ABR-20090930, Dimock Township, Susquehanna County, Pa.; Consumptive Use of up to 3.575 mgd; Approval Date: September 18, 2009.

33. Cabot Oil & Gas Corporation, Pad ID: HunsingerA P2, ABR-20090931, Dimock Township, Susquehanna County, Pa.; Consumptive Use of up to 3.575 mgd; Approval Date: September 18, 2009.

34. Fortuna Energy, Inc., Pad ID: DCNR 587 Pad #17, ABR-20090932, Ward Township, Tioga County, Pa.; Consumptive Use of up to 3.000 mgd; Approval Date: September 18, 2009.

35. Seneca Resources Corporation, Pad ID: D.M. Pino Pad H, ABR-20090933, Covington Township, Tioga County, Pa.; Consumptive Use of up to 2.000 mgd; Approval Date: September 19, 2009.

36. Seneca Resources Corporation, Pad ID: Marvin 1V Pad, ABR-20090934, Covington Township, Tioga County, Pa.; Consumptive Use of up to 0.500 mgd; Approval Date: September 19, 2009.

37. East Resources, Inc., Pad ID: Sherman 234-1H, ABR-20090935, Sullivan Township, Tioga County, Pa.; Consumptive Use of up to 4.000 mgd; Approval Date: September 21, 2009.

38. East Resources, Inc., Pad ID: Cole 236, ABR-20090936, Sullivan Township, Tioga County, Pa.; Consumptive Use of up to 4.000 mgd; Approval Date: September 21, 2009.

39. Cabot Oil & Gas Corporation, Pad ID: Hoover P1, ABR-20090937; Dimock Township, Susquehanna County, Pa.; Consumptive Use of up to 3.575 mgd; Approval Date: September 22, 2009.

40. Alta Operating Company, LLC, Pad ID: Micks Pad Site, ABR-20090938, Forest Lake Township, Susquehanna County, Pa.; Consumptive Use of up to 3.999 mgd; Approval Date: September 22, 2009.

41. Chief Oil & Gas, LLC, Pad ID: Chase A-1H Drilling Pad #1, ABR-20090939, Boggs Township, Clearfield County, Pa.; Consumptive Use of up to 5.000 mgd; Approval Date: September 23, 2009.

42. Chesapeake Appalachia, LLC, Pad ID: Welles 2, ABR-20090940, Terry Township, Bradford County, Pa.; Consumptive Use of up to 7.500 mgd; Approval Date: September 25, 2009.

43. Stone Energy Corporation, Pad ID: Stang Well No. 1, ABR-20090941, Rush Township, Susquehanna County, Pa.; Consumptive Use of up to 1.000 mgd; Approval Date: September 25, 2009.

44. Stone Energy Corporation, Pad ID: Loomis Well No. 1, ABR-20090942, Rush Township, Susquehanna County, Pa.; Consumptive Use of up to 1.000 mgd; Approval Date: September 29, 2009.

Authority: Public Law 91-575, 84 Stat. 1509 et seq., 18 CFR Parts 806, 807, and 808.

Dated: October 19, 2009.
Thomas W. Beauduy,
Deputy Director.

[FR Doc. E9-26076 Filed 10-28-09; 8:45 am]

BILLING CODE 7040-01-P